DEPARTMENT OF JUSTICE

Notice of Lodging of Consent Decree Under the Oil Pollution Act of 1990 (“OPA”)

Notice is hereby given that on September 4, 2012, a proposed Consent Decree in United States et al. v. Evergreen International, S.A., Civil Action No. 2:12-cv-02532-RMG, was lodged with the United States District Court for the District of South Carolina.

The Consent Decree resolves claims brought by the United States, on behalf of the United States Department of the Interior, acting through the United States Fish and Wildlife Service, and the National Oceanic and Atmospheric Administration, against Evergreen International, S.A. under Section 1002 of OPA, 33 U.S.C. 2702. The Consent Decree also resolves claims brought by the South Carolina Department of Health and Environmental Control and the South Carolina Department of Natural Resources (collectively, the “State Trustees”) against Evergreen International under Section 1002 of OPA and Section 48-1-90 of the South Carolina Pollution Control Act, S.C. Code Ann. § 48-1-90. In their joint complaint, filed concurrently with the Consent Decree, the United States and the State Trustees sought damages in order to compensate for natural resources injured by the discharge of fuel oil from the vessel M/V EVER REACH into the Cooper River and nearby areas in Charleston Harbor, South Carolina, in September 2002, along with the recovery of costs incurred in assessing such damages.

Under the Consent Decree, the owner of the vessel, Evergreen International, will perform a compensatory marsh restoration project along Noisette Creek in North Charleston, South Carolina; pay $121,000 in monetary damages; and pay $820,685.27 in past assessment costs and all future assessment and oversight costs incurred by the United States and the State Trustees.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States et al. v. Evergreen International, S.A., D.J. Ref. No. 90-5-1-1-08592.

During the public comment period, the Consent Decree may also be examined on the following Department of Justice Web site: http://www.justice.gov/enrd/Consent_Decrees.html. A copy of the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $17.75 (25 cents per page reproduction cost), payable to the U.S. Treasury or, if requesting by email or fax, forward a check in that amount to the Consent Decree Library at the address given above.

Henry Friedman,
Assistant Section Chief, Environmental Enforcement Section, Environment and Natural Resources Division.

[FR Doc. 2012-22272 Filed 9-10-12; 8:45 am]

BILLING CODE 4410-15-P